DEPARTMENT OF LABOR

Employment and Training Administration

[TA-W-54,004]

Medline Industries, dba Maxxim Medical, Inc., Including Leased Workers of Kelly Services, Columbus, Mississippi; Amended Certification Regarding Eligibility To Apply for Worker Adjustment Assistance

In accordance with section 223 of the Trade Act of 1974 (19 U.S.C. 2273) the Department of Labor issued a Certification of Eligibility to Apply for Worker Adjustment Assistance on February 19, 2004, applicable to workers of Medline Industries, dba Maxxim Medical, Inc., Maxxim Boundary, including leased workers of Kelly Services, Columbus, Mississippi. The notice will be published soon in the Federal Register.

At the request of the State agency, the Department reviewed the certification for workers of the subject firm. The workers produce disposable surgical drapes and are not separately identifiable by product line.

New findings show that there was a previous certification, TA-W-38,779, issued on May 21, 2001, for workers of Maxxim Medical, Inc., Columbus, Mississippi who were engaged in employment related to the production of disposable surgical drapes. That certification expired May 21, 2003. To avoid an overlap in worker group coverage, the certification is being amended to change the impact date from December 18, 2002 to May 22, 2003, for workers of the subject firm.

The amended notice applicable to TA-W-54,004 is hereby issued as follows:

All workers of Medline Industries, dba Maxxim Medical, Inc., Maxxim Boundary, Columbus, Mississippi, who became totally or partially separated from employment on or after May 22, 2003, through February 19, 2006, are eligible to apply for adjustment assistance under Section 223 of the Trade Act of 1974.

Furthermore, after careful review, I determine that all leased workers from Kelly Services, Columbus, Mississippi are denied eligibility to apply for adjustment assistance under section 223 of the Trade Act of 1974.

Signed at Washington, DC, this 5th day of March, 2004.
Elliott S. Kushner,
Certifying Officer, Division of Trade Adjustment Assistance.

[FR Doc. E4-592 Filed 3-15-04; 8:45 am]

BILLING CODE 4510-13-P